DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, March 27, 2024, 10:30 a.m. to March 27, 2024, 12:30 p.m., National Institutes of Health, NIDDK, Democracy II, Suite 7000A, 6707 Democracy Boulevard, Bethesda, MD 20892 which was published in the Federal Register on March 14, 2024, 89 FR 18652.

This meeting was amended to change the start date and end date from 03-27-2024 to 04-02-2024. The meeting is closed to the public.

Dated: March 18, 2024.
Miguelina Perez,
Program Analyst, Office of Federal Advisory Committee Policy.

[FR Doc. 2024-06127 Filed 3-21-24; 8:45 am]

BILLING CODE 4140-01-P